DEPARTMENT OF STATE

[Public Notice 4422]

Notice of Receipt of Application for Presidential Permit for the Construction of a New International Border Crossing

Notice is hereby given that the Department of State has received an application from the Maine Department of Transportation for a Presidential Permit seeking authorization for the construction, operation and maintenance of an international bridge between Calais, Maine and St. Stephen, New Brunswick, Canada. The proposed four lane bridge would be located approximately 1.5 miles from the existing Milltown international crossing.

The Department's jurisdiction with respect to this application is based upon Executive Order 11423, dated August 16, 1968, as amended, and the International Bridge Act of 1972, (33 U.S.C. 535 et seq.).

As required by E.O. 11423, the Department is circulating this application to concerned agencies for comment.

Interested persons may submit their views regarding this application in writing by September 10, 2003 to Ms. Evelyn Wheeler, Economic Officer, Office of Canadian Affairs, Room 3917, Department of State, 2201 C St. NW., Washington, DC 20520.

The application and related documents made part of the record to be considered by the Department of State in connection with this application are available for review in the Office of Canadian Affairs during normal business hours throughout the comment period.

Any questions related to this notice may be addressed to Ms. Wheeler at the above address or by fax at (202) 647-4088.

Dated: July 25, 2003.
Terry A. Breese,
Director, Office of Canadian Affairs, Department of State.

[FR Doc. 03-19427 Filed 7-29-03; 8:45 am]

BILLING CODE 4710-29-P